COMMISSION ON CIVIL RIGHTS

Notice of Public Meeting of the Hawai'i Advisory Committee

AGENCY: Commission on Civil Rights.

ACTION: Notice of virtual briefing.

SUMMARY: Notice is hereby given, pursuant to the provisions of the rules and regulations of the U.S. Commission on Civil Rights (Commission) and the Federal Advisory Committee Act (FACA), that the Hawai'i Advisory Committee (Committee) to the U.S. Commission on Civil Rights will convene by ZoomGov on Monday, February 12, 2024, from 2:00 p.m. to 4:30 p.m. HST, to collect testimony related to the Committee's topic “Examining Hawai`i's Child Welfare System and its Impact on Native Hawaiian Children and Families.”

DATES: Monday, February 12, 2024, from 2:00 p.m.-4:30 p.m. Hawai'i Standard Time.

ADDRESSES: The briefing will be held via Zoom.

Registration Link (Audio/Visual): https://www.zoomgov.com/s/1618091260?pwd=bGRZWUFhaFBmblcxMTlJQ256c1lDQT09

Join by Phone (Audio Only): (833) 435-1820 USA Toll Free; Webinar ID: 161 809 1260#

FOR FURTHER INFORMATION CONTACT: Kayla Fajota, Designated Federal Officer (DFO) at kfajota@usccr.gov or (434) 515-2395.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf, hard of hearing, or who have certain cognitive or learning impairments. To request additional accommodations, please email Angelica Trevino, Support Services Specialists, at atrevino@usccr.gov at least 10 business days prior to the meeting.

Members of the public are entitled to make comments during the open period at the end of the meeting. Members of the public may also submit written comments; the comments must be received in the Regional Programs Unit within 30 days following the meeting. Written comments may be emailed to Kayla Fajota at kfajota@usccr.gov.

Records and documents discussed during the meeting will be available for public viewing prior to and after the meeting at https://www.facadatabase.gov/FACA/FACAPublicViewCommitteeDetails?id=a10t0000001gzl0AAA.

Please click on “Committee Meetings” tab. Records generated from this meeting may also be inspected and reproduced at the Regional Programs Unit, as they become available, both before and after the meeting. Persons interested in the work of this Committee are directed to the Commission's website, https://www.usccr.gov, or may contact the Regional Programs Coordination Unit at kfajota@usccr.gov.

Agenda

I. Welcome, Roll Call, and Opening Remarks

II. Panelists Presentations

III. Committee Question and Answer

IV. Public Comment

V. Committee Business

VI. Adjournment

Dated: December 21, 2023.
David Mussatt,
Supervisory Chief, Regional Programs Unit.

[FR Doc. 2023-28570 Filed 12-26-23; 8:45 am]

BILLING CODE 6335-01-P